DEPARTMENT OF COMMERCE

International Trade Administration

(A-351-826)

Small Diameter Seamless Carbon and Alloy Steel Standard, Line and Pressure Pipe from Brazil: Extension of Time Limit for the Final Results of the Antidumping Duty Administrative Review

AGENCY: Import Administration, International Trade Administration, Department of Commerce.

EFFECTIVE DATE: August 16, 2005.

FOR FURTHER INFORMATION CONTACT: Patrick Edwards, AD/CVD Operations, Office 7, Import Administration, International Trade Administration, U.S. Department of Commerce, 14th Street and Constitution Avenue, NW, Washington, DC 20230; telephone (202) 482-8029.

SUPPLEMENTARY INFORMATION:

Background

On May 10, 2005, the Department of Commerce (“the Department”) published the preliminary results of the administrative review of the antidumping duty order on small diameter seamless carbon and alloy steel standard, line and pressure pipe (“line and pressure pipe”) from Brazil covering the period August 1, 2003, through July 31, 2004. See Small Diameter Seamless Carbon and Alloy Steel Standard, Line and Pressure Pipe from Brazil; Preliminary Results of Antidumping Administrative Review, 70 FR 24524 (May 10, 2005). The final results for the antidumping duty administrative review of line and pressure pipe from Brazil are currently due no later than September 7, 2005.

Extension of Time Limits for Final Results

Section 751(a)(3)(A) of the Tariff Act of 1930, as amended by the Uruguay Round Agreements Act (“the Act”), requires the Department to issue the preliminary results of an administrative review within 245 days after the last day of the anniversary month of an antidumping duty order for which a review is requested and issue the final results within 120 days after the date on which the preliminary results are published. However, if it is not practicable to complete the review within the time period, section 751(a)(3)(A) of the Act allows the Department to extend these deadlines to a maximum of 365 days and 180 days, respectively.

Due to the complexity of issues present in this administrative review, such as model match characteristics and establishing the appropriate foreign like product, as well as the Department's current demands of other proceedings, the Department has determined that it is not practicable to complete this review within the original time period. Accordingly, the Department is extending the time limit for completion of the final results until no later than October 7, 2005, in accordance with section 751(a)(3)(A) of the Act.

We are issuing and publishing this notice in accordance with sections 751(a)(1) and 777(i)(1) of the Act.

Dated: August 10, 2005.
Barbara E. Tillman,
Acting Deputy Assistant Secretary for Import Administration.

[FR Doc. E5-4450 Filed 8-15-05; 8:45 am]

BILLING CODE 3510-DS-S